DEPARTMENT OF ENERGY

Federal Energy Regulatory Commission

Combined Notice of Filings #2

Take notice that the Commission received the following electric rate filings:

Docket Numbers: ER12-1265-007.

Applicants: Midcontinent Independent System Operator, Inc.

Description: Compliance filing: 2016-11-22_Order 719 Compliance Filing to be effective 6/12/2012.

Filed Date: 11/22/16.

Accession Number: 20161122-5101.

Comments Due: 5 p.m. ET 12/13/16.

Docket Numbers: ER13-1943-006.

Applicants: Midcontinent Independent System Operator, Inc.

Description: Compliance filing: 2016-11-22_MISO-PJM JOA Order 1000 Interregional Compliance to be effective 1/1/2014.

Filed Date: 11/22/16.

Accession Number: 20161122-5188.

Comments Due: 5 p.m. ET 12/13/16.

Docket Numbers: ER17-272-001.

Applicants: Startrans IO, LLC.

Description: Tariff Amendment: Errata to TRBAA 2017 Update to be effective 1/1/2017.

Filed Date: 11/22/16.

Accession Number: 20161122-5178.

Comments Due: 5 p.m. ET 12/13/16.

Docket Numbers: ER17-404-000.

Applicants: Midcontinent Independent System Operator, Inc., MidAmerican Energy Company, ITC Midwest LLC.

Description: § 205(d) Rate Filing: 2016-11-22_SA 2972 MidAmerican-ITC Midwest FCA (Coulter-Tap) to be effective 11/23/2016.

Filed Date: 11/22/16.

Accession Number: 20161122-5096.

Comments Due: 5 p.m. ET 12/13/16.

Docket Numbers: ER17-405-000.

Applicants: American Electric Power Service Corporation, PJM Interconnection, L.L.C.

Description: § 205(d) Rate Filing: AEP East Submits OATT H-14 Revisions to be effective 1/1/2017.

Filed Date: 11/22/16.

Accession Number: 20161122-5099.

Comments Due: 5 p.m. ET 12/13/16.

Docket Numbers: ER17-406-000.

Applicants: American Electric Power Service Corporation, PJM Interconnection, L.L.C.

Description: § 205(d) Rate Filing: AEP submits OATT H-20 Revisions to be effective 1/1/2017.

Filed Date: 11/22/16.

Accession Number: 20161122-5132.

Comments Due: 5 p.m. ET 12/13/16.

Docket Numbers: ER17-407-000.

Applicants: ISO New England Inc., Central Maine Power Company.

Description: § 205(d) Rate Filing: CMP and ISO-NE Filing of LSA under Schedule 21-CMP of ISO OATT to be effective 8/8/2016.

Filed Date: 11/22/16.

Accession Number: 20161122-5148.

Comments Due: 5 p.m. ET 12/13/16.

Docket Numbers: ER17-408-000.

Applicants: California Independent System Operator Corporation.

Description: § 205(d) Rate Filing: 2016-11-22 Transferred Frequency Response Agreement with BPA to be effective 12/1/2016.

Filed Date: 11/22/16.

Accession Number: 20161122-5156.

Comments Due: 5 p.m. ET 12/13/16.

Docket Numbers: ER17-409-000.

Applicants: Mid-Atlantic Interstate Transmission, LLC, PJM Interconnection, L.L.C.

Description: § 205(d) Rate Filing: MAIT submits Agency Agreement No. 4580 among MetEd, Penelec and MAIT to be effective 1/1/2017.

Filed Date: 11/22/16.

Accession Number: 20161122-5159.

Comments Due: 5 p.m. ET 12/13/16.

Docket Numbers: ER17-410-000.

Applicants: PJM Interconnection, L.L.C.

Description: § 205(d) Rate Filing: Queue #X4-048/Y2-089, First Revised Service Agreement No. 3838 to be effective 10/25/2016.

Filed Date: 11/22/16.

Accession Number: 20161122-5160.

Comments Due: 5 p.m. ET 12/13/16.

Docket Numbers: ER17-411-000.

Applicants: California Independent System Operator Corporation.

Description: § 205(d) Rate Filing: 2016-11-22 Transferred Frequency Response Agreement with City of Seattle to be effective 12/1/2016.

Filed Date: 11/22/16.

Accession Number: 20161122-5166.

Comments Due: 5 p.m. ET 12/13/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 22, 2016.
Kimberly D. Bose,
Secretary.

[FR Doc. 2016-28763 Filed 11-29-16; 8:45 am]

BILLING CODE 6717-01-P